DEPARTMENT OF STATE

[Delegation of Authority No. 331]

Delegation by the Deputy Secretary of State Regarding Department Representation on the Committee on Foreign Investment in the U.S. (CFIUS)

By virtue of the authority vested in the Secretary by the laws of the United States, including the State Department Basic Authorities Act, as amended (22 U.S.C. 2651a), and delegated to me pursuant to Delegation of Authority 245-1, I hereby delegate to the Under Secretary for Economic, Energy and Agricultural Affairs and Assistant Secretary for Economic, Energy and Business Affairs, to the extent authorized by law, the authority to represent the Department on the Committee on Foreign Investment in the U.S. (CFIUS), consistent with Section 721 of the Defense Production Act, as amended (50 U.S.C. App. § 2170). The Under Secretary or Assistant Secretary shall consult with the Under Secretary for Arms Control and International Security and the Assistant Secretary for Political-Military Affairs to obtain a defense trade control and compliance assessment of any CFIUS transactions.

Any act, executive order, regulation, or procedure subject to, or affected by, this delegation shall be deemed to be such act, executive order, regulation, or procedure as amended from time to time.

Notwithstanding this delegation of authority, the Secretary, the Deputy Secretary, or the Deputy Secretary for Management and Resources may at any time exercise any authority or function delegated by this delegation of authority.

This delegation of authority shall be published in the Federal Register

December 16, 2009.
James Steinberg,
Deputy Secretary of State.

Editorial Note: This document was received in the Office of the Federal Register on August 12, 2010.

[FR Doc. 2010-20301 Filed 8-16-10; 8:45 am]

BILLING CODE 4710-10-P